COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds service(s) to the Procurement List that will be furnished by nonprofit agencies employing persons who are blind or have other severe disabilities, and deletes product(s) and service(s) from the Procurement List previously furnished by such agencies.

DATES: Date added to and deleted from the Procurement List: April 4, 2021.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 12/4/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Facility Support Services

Mandatory for: National Park Service, National Capital Area, Multiple Locations, Washington, DC

Designated Source of Supply: Portco, Inc., Portsmouth, VA

Contracting Activity: National Park Service, NCR Regional Contracting (30000)

The Committee finds good cause to dispense with the 30-day delay in the effective date normally required by the Administrative Procedure Act. See U.S.C. 553(d)(3). This addition to the Committee's Procurement List is effectuated because of the expiration of the National Park Service's Facility Support Services contract for the National Capital Area, Washington, DC. The federal customer contacted, and has worked diligently with the AbilityOne Program to fulfill this Service need under the AbilityOne Program. To avoid performance disruption, and the possibility that the National Park Service will refer its business elsewhere, this addition must be effective on March 21, 2021, ensuring timely execution for a start date while still allowing 17 days for comment. Pursuant to its own regulation, 41 CFR 51-2.4, the Committee determined that no exists on the current contractor. The Committee also published a notice of proposed Procurement List addition in the Federal Register on December 4, 2021, and did not receive any comments from any interested persons, including from the incumbent contractor. The addition will not create a public hardship and has limited effect on the public at large, but rather, will create new jobs for other affected parties—people with significant disabilities in the AbilityOne Program who otherwise face challenges locating employment. Moreover, this addition will enable Federal customer operations to continue without interruption.

Deletions

On 1/29/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 5855-00-125-0713—Strap Assembly, Night Vision

Designated Source of Supply: Cambria County Association for the Blind and Handicapped, Johnstown, PA

Contracting Activity: DLA Aviation, Richmond, VA

NSN(s)—Product Name(s): 4240-01-441-0562—Head Harness (without Mask)

Contracting Activity: W4GG HQ US Army TACOM, Rock Island, IL

NSN(s)—Product Name(s): 3990-00-892-4394—Pallet, Material Handling

Designated Source of Supply: Northeastern Michigan Rehabilitation and Opportunity Center (NEMROC), Alpena, MI; Knox County Association for Remarkable Citizens, Inc., Vincennes, IN

Contracting Activity: DLA Troop Support, Philadelphia, PA

NSN(s)—Product Name(s):

5340-01-118-6678—Clamp, Loop, CRES, 3/4″ Loop x 1/2″ wide

5340-01-252-4644—Clamp, Loop, CRES, 14/16″ loop x 1/2″ wide

Designated Source of Supply: Skookum Educational Programs, Bremerton, WA

Contracting Activity: DLA Troop Support, Philadelphia, PA

Service(s)

Service Type: Mail Management Support Service

Mandatory for: US Navy, Official Mail Centers Carderock, West Bethesda, MD

Designated Source of Supply: NewView Oklahoma, Inc., Oklahoma City, OK

Contracting Activity: Dept of the Navy, NAVSUP FLT Log CTR Norfolk

Service Type: Acquisition Support Services

Mandatory for: DCMA Headquarters, Alexandria, VA

Designated Source of Supply: Virginia Industries for the Blind, Charlottesville, VA

Contracting Activity: Defense Contract Management Agency (DCMA), Defense Contract Management Agency

Service Type: Administrative and Professional Support Services

Mandatory for: Executive Office of the President, Washington, DC

Designated Source of Supply: Columbia Lighthouse for the Blind, Washington, DC

Contracting Activity: Executive Office of the President

Service Type: Customer Service Representatives

Mandatory for: Fleet and Industrial Supply Center: SERVMART Division, Norfolk, VA

Designated Source of Supply: Virginia Industries for the Blind, Charlottesville, VA

Contracting Activity: General Services Administration, FPDS Agency Coordinator

Service Type: Customer Service Representatives

Mandatory for: GSA, Northwest Arctic Region: 400 15th Street SW, Auburn, WA

Designated Source of Supply: The Lighthouse for the Blind, Inc. (Seattle Lighthouse), Seattle, WA

Contracting Activity: General Services Administration, FPDS Agency Coordinator

Service Type: Switchboard Operation

Mandatory for: Harry S. Truman Memorial Veterans Hospital, Columbia, MO

Designated Source of Supply: Alphapointe, Kansas City, MO

Contracting Activity: Veterans Affairs, Department of, NAC

Michael R. Jurkowski,
Deputy Director, Business & PL Operations.

[FR Doc. 2021-04636 Filed 3-4-21; 8:45 am]

BILLING CODE 6353-01-P